Title 3—

The President

Proclamation 7909 of June 3, 2005

National Child's Day, 2005

By the President of the United States of America

A Proclamation

Children are the future of our country and America's next generation of leaders. All of us—parents, families, teachers, mentors, and community members—have a responsibility to children to honor and pass along the values that sustain a free society. By spending time with a young person, adults can help our Nation's youth to make the right choices. On National Child's Day, we underscore our commitment to supporting children and to helping them realize a bright and hopeful future.

Family is the most important influence in a child's life. Parents are teachers, disciplinarians, advisors, and role models. By providing hope and stability, parents help children to understand the consequences of their actions and to recognize that the decisions they make today can affect the rest of their lives. Through initiatives that promote healthy marriages, responsible fatherhood, and adoption and foster care programs, my Administration is helping to ensure that more young people have a foundation of love and support.

Teachers also make a real difference in children's lives. America's educators help our students build character and acquire the skills and knowledge they need to succeed as adults. My Administration is insisting upon accountability in our public schools. We want every child to have an opportunity to realize the great promise of our country.

By mentoring children and helping them to achieve their dreams, Americans can fill their own lives with greater purpose and help make our country a better place. Our children benefit from a sense of community, and each of us has the power to make a difference in a child's life. I have introduced the Helping America's Youth initiative, led by First Lady Laura Bush, so that every child can grow up with a caring adult in his or her life—whether that adult is a parent, a teacher, a coach, or a mentor. I encourage all Americans to volunteer their time and talents to benefit our Nation's youth.

NOW, THEREFORE, I, GEORGE W. BUSH, President of the United States of America, by virtue of the authority vested in me by the Constitution and laws of the United States, do hereby proclaim June 5, 2005, as National Child's Day, and I call upon citizens to observe this day with appropriate ceremonies and activities. I also urge all Americans to dedicate their time and talents toward helping our Nation's young people so that all children may reach as far as their vision and character can take them.

IN WITNESS WHEREOF, I have hereunto set my hand this third day of June, in the year of our Lord two thousand five, and of the Independence of the United States of America the two hundred and twenty-ninth.

B

[FR Doc. 05-11457

Filed 6-6-05; 11:32 am]

Billing code 3195-01-P